DEPARTMENT OF AGRICULTURE

Forest Service

Tuolumne County Resource Advisory Committee

AGENCY: Forest Service, USDA.

ACTION: Notice of meeting.

SUMMARY: The Tuolumne County Resource Advisory Committee will meet on January 27, 2003 at the City of Sonora Fire Department, in Sonora, California. The purpose of the meeting is to receive project proponent updates on status of Round 1 funded projects, and review remaining unapproved round 1 and 2 project submittals to determine future status.

DATES: The meeting will be held January 27, 2003, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; E-mail pkaunert@fs.fed.us.

SUPPLEMENTARY INFORMATION: Agenda items to be covered include: (1) Round 1 project status update reports; (2) Replacement member update; (3) Review remaining Round 1 and 2 project proposal to determine future status; (4) Review and vote on one new project submittal; (5) Determine due date for Round 3 project proposals; (6) Determine purpose and dates of future meetings. This meeting is open to the public.

Dated: December 23, 2002.
Patrick D. Kaunert,
Acting Forest Supervisor.

[FR Doc. 02-32842 Filed 12-27-02; 8:45 am]

BILLING CODE 3410-ED-M